DEPARTMENT OF THE INTERIOR

Bureau of Indian Affairs

Notice of Service Area Designation

AGENCY: Bureau of Indian Affairs, Interior.

ACTION: Notice.

SUMMARY: This notice is published to exercise the authority delegated by the Secretary of the Interior to the Assistant Secretary—Indian Affairs. Under 25 CFR 20.201, notice is hereby given of the service area designation for the Mille Lacs Band of Ojibwe Indians recognized as eligible to receive services from the United States Bureau of Indian Affairs (BIA).

EFFECTIVE DATE: This service area designation becomes effective on July 22, 2004.

FOR FURTHER INFORMATION CONTACT: Dr. Kenneth D. Reinfeld, Office of Self-Governance and Self-Determination, Telephone 202-208-5734.

SUPPLEMENTARY INFORMATION: In accordance with 25 CFR part 20, Financial Assistance and Social Services Programs, the Assistant Secretary—Indian Affairs designates the following locale as a service area appropriate for the extension of BIA financial assistance and/or social services. 25 CFR part 20—Financial Assistance and Social Services Programs regulations have full force and effect when extending the BIA financial assistance and/or social services into the service area location. Without officially designated service areas, such services are provided only to Indian people who live within the reservation boundaries. The Mille Lacs Band of Ojibwe Indians is now authorized to extend financial assistance and social services to eligible tribal members (and their family members who are Indian) who reside outside the boundaries of the federally recognized tribe's reservation within the areas designated below.

Tribe: Mille Lacs Band of Ojibwe Indians.

Service Area locations: The counties of Hennipen, Anoka, and Ramsey in the State of Minnesota.

Dated: June 9, 2004.
David W. Anderson,
Assistant Secretary—Indian Affairs.

[FR Doc. 04-14057 Filed 6-21-04; 8:45 am]

BILLING CODE 4310-4M-P